DEPARTMENT OF COMMERCE

International Trade Administration

[C-357-813]

Notice of Extension of Time Limit for the Final Results of Countervailing Duty Administrative Review: Honey From Argentina

AGENCY: Import Administration, International Trade Administration, U.S. Department of Commerce.

SUMMARY: The Department of Commerce is extending the time limit for the final results of the administrative review of the countervailing duty order on honey from Argentina until no later than May 17, 2004. The period of review (POR) is January 1, 2001, through December 31, 2002. This extension is made pursuant to section 751(a)(1) of the Tariff Act of 1930, as amended (the Act).

EFFECTIVE DATE: March 31, 2004.

FOR FURTHER INFORMATION CONTACT: Thomas Gilgunn or Addilyn Chams-Eddine, Office of AD/CVD Enforcement VII, Import Administration, International Trade Administration, U.S. Department of Commerce, 14th Street and Constitution Avenue, NW., Washington, DC 20230; telephone: (202) 482-4236 or (202) 482-0648, respectively.

Background

On December 15, 2003, the Department published the preliminary results of the administrative review of the countervailing duty order on honey from Argentina for the period January 1, 2001 through December 31, 2002. See Honey from Argentina: Preliminary Results of Countervailing Duty Administrative Review, 68 FR 69660. In our notice of preliminary results, we stated our intention to issue the final results of this review no later that 120 days from the date of publication of the preliminary results, unless the final was extended. The final results of this review are currently due April 13, 2004.

Statutory Time Limits

Section 351.213(h)(1) of the regulations requires the Department to issue the preliminary results of review within 245 days after the last day of the anniversary month of the order or suspension agreement for which the administrative review was requested, and final results of an administrative review within 120 days after the date on which notice of the preliminary results is published in the Federal Register. However, if the Department determines that it is not practicable to complete the review within the aforementioned specified time limits, section 351.213(h)(2) allows the Department to extend the 245-day-period to 365 days and to extend the 120-day period to 180 days.

Extension of Time Limit for Final Results

Pursuant to section 751(a)(3)(A) of the Act and section 351.213(h)(2) of the regulations, the Department has determined that it is not practicable to complete the final results of this administrative review by April 13, 2004. The Department must address issues unique to this first administrative review of the countervailing duty order on honey from Argentina. The issues involve the calculation of the countervailing duty assessment rate and the establishment of the cash deposit rate in light of having expanded the review period to include calendar year 2002. (See Memorandum from Thomas Gilgunn to Joseph A Spetrini, “Honey from Argentina: Expansion of the Period of Review in the First Administrative Review of the Countervailing Duty Order,” dated February 21, 2003, on file in the Central Records Unit (CRU) located in room B-099 of the Main Commerce Building.) Therefore, the Department is extending the deadline for completion of the final results of the administrative review of the countervailing duty order on honey from Argentina by 34 days. The final results of the review will now be due no later than May 17, 2004.

This notice is published pursuant to sections 751(a)(3)(A) and 777(i)(1) of the Act.

Dated: March 25, 2004.
Joseph A. Spetrini,
Deputy Assistant Secretary for Import Administration, Group III.

[FR Doc. 04-7225 Filed 3-30-04; 8:45 am]

BILLING CODE 3510-DS-P